DEPARTMENT OF THE INTERIOR

U.S. Geological Survey

Scientific Earthquake Studies Advisory Committee

AGENCY: U.S. Geological Survey.

ACTION: Notice of meeting.

SUMMARY: Pursuant to Public Law 106-503, the Scientific Earthquake Studies Advisory Committee (SESAC) will hold its 19th meeting. The meeting location is the Silver Cloud Inn/University District, 3056 25th Avenue, NE., Seattle, Washington 98105. The Committee is comprised of members from academia, industry, and State government. The Committee shall advise the Director of the U.S. Geological Survey (USGS) on matters relating to the USGS's participation in the National Earthquake Hazards Reduction Program.

The Committee will be hearing updates on the USGS Earthquake Hazards Program with a focus on partnered activities in the Pacific Northwest, discuss lessons learned from the Great Southern California Shakeout, and make assignments for annual report preparation.

Meetings of the Scientific Earthquake Studies Advisory Committee are open to the public.

DATES: February 2, 2009, commencing at 8:30 a.m. and adjourning February 3, 2009, at Noon.

Contact: Dr. David Applegate, U.S. Geological Survey, MS 905, 12201 Sunrise Valley Drive, Reston, Virginia 20192, (703) 648-6714, applegate@usgs.gov.

Suzette Kimball,
Associate Director for Geology.

[FR Doc. E9-1782 Filed 1-27-09; 8:45 am]

BILLING CODE 4311-AM-P